SURFACE TRANSPORTATION BOARD

Notice and Request for Comments

AGENCY: Surface Transportation Board.

ACTION: 60-day notice of intent to seek extension of approval: Arbitration Option Notices.

SUMMARY: As required by the Paperwork Reduction Act of 1995, 44 U.S.C. 3501-3521 (PRA), the Surface Transportation Board (STB or Board) gives notice of its intent to seek approval from the Office of Management and Budget (OMB) for an extension of the process for filing Arbitration Option Notices. This information collection is described in detail below.

Comments are requested concerning: (1) The accuracy of the Board's burden estimates; (2) ways to enhance the quality, utility, and clarity of the information collected; (3) ways to minimize the burden of the collection of information on the respondents, including the use of automated collection techniques or other forms of information technology, when appropriate; and (4) whether the collection of information is necessary for the proper performance of the functions of the Board, including whether the collection has practical utility. Submitted comments will be summarized and included in the Board's request for OMB approval.

Description of Collection

Title: Arbitration Option Notices.

OMB Control Number: 2140-0020.

STB Form Number: None.

Type of Review: Extension with change.

Respondents: All regulated rail carriers.

Number of Respondents: 1.

Estimated Time per Response: .5 hours.

Frequency: Annually.

Total Burden Hours (annually including all respondents): .5 hours.

Total “Non-hour Burden” Cost: None identified. Filings are submitted electronically to the Board.

Needs and Uses: Under the Interstate Commerce Act, as amended by the ICC Termination Act of 1995, Public Law 104-88, 109 Stat. 803 (1995), the Board is responsible for the economic regulation of common carrier rail transportation. Under 49 CFR 1108.3, rail carriers may agree to participate in the Board's arbitration program by filing a notice with the Board to “opt in.” Once a rail carrier is participating in the Board's arbitration program, it may discontinue its participation only by filing a notice to “opt out” with the Board, which would become effective 90 days after its filing.

DATES: Comments on this information collection should be submitted by July 1, 2016.

ADDRESSES: Direct all comments to Chris Oehrle, Surface Transportation Board, 395 E Street SW., Washington, DC 20423-0001, or to PRA@stb.dot.gov. When submitting comments, please refer to “Arbitration Option Notice.” For further information regarding this collection, contact Michael Higgins, Deputy Director, Office of Public Assistance, Governmental Affairs, and Compliance at (202) 245-0284 or at higginsm@stb.dot.gov. [Assistance for the hearing impaired is available through the Federal Information Relay Service (FIRS) at 1-800-877-8339.]

SUPPLEMENTARY INFORMATION: Under the PRA, a federal agency that conducts or sponsors a collection of information must display a currently valid OMB control number. A collection of information, which is defined in 44 U.S.C. 3502(3) and 5 CFR 1320.3(c), includes agency requirements that persons submit reports, keep records, or provide information to the agency, third parties, or the public. Under § 3506(c)(2)(A) of the PRA, federal agencies are required to provide, prior to an agency's submitting a collection to OMB for approval, a 60-day notice and comment period through publication in the Federal Register concerning each proposed collection of information, including each proposed extension of an existing collection of information.

Dated: April 27, 2016.
Jeffrey Herzig,
Clearance Clerk.

[FR Doc. 2016-10192 Filed 4-29-16; 8:45 am]

BILLING CODE 4915-01-P